DEPARTMENT OF THE INTERIOR

National Park Service

Notice of Intent to Repatriate a Cultural Item: Denver Museum of Nature & Science, Denver, CO

AGENCY: National Park Service, Interior.

ACTION: Notice.

Notice is here given in accordance with the Native American Graves Protection and Repatriation Act (NAGPRA), 25 U.S.C. 3005, of the intent to repatriate a cultural item in the possession of the Denver Museum of Nature & Science, Denver, CO, which meets the definition of “object of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The cultural item is a Killerwhale Flotilla Chilkat Robe, which is also called a blanket, as the two terms are used interchangeably to describe the item (A705.1). The robe is a shoulder blanket style in a two-dimensional flat textile widely rectangular at the top and sides and sloping at the base toward the center, so that it is broadly shield-shaped. The fabric was created by means of twined weaving in handspun mountain goat wool and yellow cedar bark, which is a technique known as Chilkat twining from its specialty production by Chilkat Tlingit women. The robe is draped loosely over the shoulders, falling to mid-legs and tied across the chest with sewn-on ties or held closed with the hands. The white design field of the entire blanket is filled with twelve black bordered rectangular segments, each containing a stylized side-view killerwhale motif featuring a prominent fin on the back. Black form lines enclose and detail the X-ray views of whale ribs and body parts, highlighted with natural dyed yellow and green. The whale heads are toward the blanket center. A wide black border encircles the blanket. Long fringes of alternating white and green twisted wool and cedar bark sections rim the side and basal edges.

In approximately 1890, the cultural item was made by a master weaver, a woman named Cacaydayat, during the succession of Gush Tlein as Shakes VI (1878-1916). After the death of Shakes VI in 1916, the robe passed in valid succession to Shakes VII, Charlie Jones or X'adaaneik and Kaax'eishge, though not formally recognized in ceremony until 1940. Sometime before his death in 1944, Shakes VII sold the robe to Mr. Waters, a dentist from Seattle, WA, although museum records state that the robe was sold “around 1945-46.” Mrs. Amy K. Churchill of Wrangell, AK, whose father James Bradley was a claimant to the Shakes VIII title, but neither one a Naanya'aayi Clan member, purchased the robe from Mr. Waters at an unknown date after 1944. Mrs. Emma Frost of Oregon City, OR, inherited the robe from her mother Mrs. Churchill around 1965. In August 1973, Mrs. Frost sold the robe to Michael R. Johnson and Sharon M. Johnson, collectors and art dealers of Bellevue, WA. In October 1973, Mr. and Mrs. Kernon Weckbaugh of Denver, CO, purchased the robe from the Johnsons and donated the robe to the museum.

During consultation, representatives of the Central Council of Tlingit & Haida Indian Tribes gave evidence of the robe as clan “treasured property” and also recounted its place in clan belief and ceremonial practice. The robe is identified as an item of Chilkat regalia among the most valued of ceremonial clothing used in funerary rites and is high status apparel at traditional ceremonies and potlatches. The robe is required for the ceremonial rites conducted to renew and ensure the spiritual harmony of the Tlingit people. The Clan's right of possession was explained at length through a line of family-member caretakers succeeding Shakes VI, as well as unauthorized holders. Earlier Killerwhale Robes of the Clan, not traced explicitly, would have been associated with the lineage of Shakes chiefs. The robe is not owned by a single individual, instead there are designated caretakers and belongs to the clan as a whole, and therefore it could not have been alienated by a single individual. The clan that takes care of the robe and this particular Killerwhale pattern is the Naanya.aayi Clan, represented in this claim by the Central Council of Tlingit & Haida Indian Tribes.

Officials of the Denver Museum of Nature & Science have determined that, pursuant to 25 U.S.C. 3001 (3)(D), the one cultural item has ongoing historical, traditional, or cultural importance central to the Native American group or culture itself, rather than property owned by an individual. Officials of the Denver Museum of Nature & Science also have determined that, pursuant to 25 U.S.C. 3001 (2), there is a relationship of shared group identity which can be reasonably traced between the object of cultural patrimony and the Central Council of the Tlingit & Haida Indian Tribes.

Representatives of any other Indian tribe that believes itself to be culturally affiliated with the object of cultural patrimony should contact Dr. Stephen Nash, Chair, Department of Anthropology, Denver Museum of Nature & Science, 2001 Colorado Boulevard, Denver, CO 80205, telephone (303) 370-6056, before September 24, 2007. Repatriation of the cultural item to the Central Council of the Tlingit & Haida Indian Tribes on behalf of the Naanya.aayi Clan may proceed after that date if no additional claimants come forward.

The Denver Museum of Nature & Science is responsible for notifying the Central Council of the Tlingit & Haida Indian Tribes that this notice has been published.

Dated: August 8, 2007.
Sherry Hutt,
Manager, National NAGPRA Program.

[FR Doc. E7-16785 Filed 8-23-07; 8:45 am]

BILLING CODE 4312-50-S